DEPARTMENT OF TRANSPORTATION

Federal Aviation Administration

14 CFR Part 39

[Docket No. FAA-2005-21730; Directorate Identifier 2005-NE-18-AD; Amendment 39-14186; AD 2005-14-09]

RIN 2120-AA64

Airworthiness Directives; Rolls-Royce plc Models RB211 Trent 768-60, Trent 772-60, and Trent 772B-60 Turbofan Engines

AGENCY: Federal Aviation Administration (FAA), DOT.

ACTION: Final rule; request for comments.

SUMMARY: The FAA is adopting a new airworthiness directive (AD) for Rolls-Royce plc (RR) models RB211 Trent 768-60, Trent 772-60, and Trent 772B-60 turbofan engines. This AD requires removal of certain Engine Electronic Controller (EEC) part numbers from service. This AD results from nine reports of loss of engine parameters displayed in the airplane cockpit, with the simultaneous loss of capability to change thrust of the affected engine. We are issuing this AD to prevent loss of airplane control after an aborted takeoff due to asymmetric thrust.

DATES: Effective July 25, 2005.

We must receive any comments on this AD by September 6, 2005.

ADDRESSES: Use one of the following addresses to comment on this AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

FOR FURTHER INFORMATION CONTACT: Christopher Spinney, Aerospace Engineer, Engine Certification Office, FAA, Engine and Propeller Directorate, 12 New England Executive Park, Burlington, MA 01803-5299; telephone (781) 238-7175; fax (781) 238-7199.

SUPPLEMENTARY INFORMATION: The Civil Aviation Authority (CAA), which is the airworthiness authority for the United Kingdom (UK), recently notified us that an unsafe condition might exist on Rolls-Royce plc RB211 Trent 768-60, Trent 772-60, and Trent 772B-60 turbofan engines. The CAA advises that there have been nine reports of loss of engine parameters displayed in the airplane cockpit, with the simultaneous loss of capability to change thrust of the affected engine. RR's investigation established the cause of these conditions to be a fault in the EEC software. RR has determined that if this condition occurs during takeoff roll and in response, the crew attempts to abort the takeoff, hazardous asymmetric thrust could occur.

Bilateral Airworthiness Agreement

These RR RB211 Trent 768-60, Trent 772-60, and Trent 772B-60 turbofan engines are manufactured in the UK and are type certificated for operation in the United States under the provisions of section 21.29 of the Federal Aviation Regulations (14 CFR 21.29) and the applicable bilateral airworthiness agreement. Under this bilateral airworthiness agreement, the CAA kept the FAA informed of the situation described above. We have examined the findings of the CAA, reviewed all available information, and determined that AD action is necessary for products of this type design that are certificated for operation in the United States.

FAA's Determination and Requirements of This AD

Although no airplanes that are registered in the United States use these engines, the possibility exists that the engines could be used on airplanes that are registered in the United States in the future. The unsafe condition described previously is likely to exist or develop on other RR RB211 Trent 768-60, Trent 772-60, and Trent 772B-60 turbofan engines of the same type design. We are issuing this AD to prevent loss of airplane control after an aborted takeoff due to asymmetric thrust. This AD requires removal of certain EEC part numbers from service.

FAA's Determination of the Effective Date

Since there are currently no domestic operators of this engine model, notice and opportunity for public comment before issuing this AD are unnecessary. A situation exists that allows the immediate adoption of this regulation.

Comments Invited

This AD is a final rule that involves requirements affecting flight safety and was not preceded by notice and an opportunity for public comment; however, we invite you to send us any written relevant data, views, or arguments regarding this AD. Send your comments to an address listed under ADDRESSES. Include “AD Docket No. FAA-2005-21730; Directorate Identifier 2005-NE-18-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the Docket Management System Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Office between 9 a.m. and 5 p.m., Monday through Friday, except Federal holidays. The Docket Management Facility Office (telephone (800) 647-5227) is located on the plaza level of the Department of Transportation Nassif Building at the street address stated in ADDRESSES. Comments will be available in the AD docket shortly after the Docket Management Facility Office receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2005-14-09 Rolls-Royce plc: Amendment 39-14186. Docket No. FAA-2005-21730; Directorate Identifier 2005-NE-18-AD.

Effective Date

(a) This airworthiness directive (AD) becomes effective July 25, 2005.

Affected ADs

(b) None.

Applicability

(c) This AD applies to Rolls-Royce plc (RR) Model RB211 Trent 768-60, Trent 772-60, and Trent 772B-60 turbofan engines with Engine Electronic Controllers (EECs) listed by P/N in the following Table 1:

Table 1.—Affected EEC Part Numbers
EEC2000.06.BB.1
EEC2000-06-BE-1
EEC2000-06-BG-1
EEC2000-06-BH-1
EEC2000-06-BL-1
EEC2000-06-BM-1
EEC2000.07.BB.1
EEC2000-07-BE-1
EEC2000-07-BG-1
EEC2000-07-BH-1
EEC2000-07-BL-1
EEC2000-07-BM-1

These engines are installed on, but not limited to, Airbus A330 series airplanes.

Unsafe Condition

(d) This AD results from nine reports of loss of engine parameters displayed in the airplane cockpit, with the simultaneous loss of capability to change thrust of the affected engine. We are issuing this AD to prevent loss of airplane control after an aborted takeoff due to asymmetric thrust.

Compliance

(e) You are responsible for having the actions required by this AD performed before July 31, 2006, unless the actions have already been done.

Removal From Service of EECs

(f) Remove from service the EECs with part numbers listed in Table 1 of this AD.

(g) Information on the EEC software changes can be found in Rolls-Royce Alert Service Bulletin No. RB.211-73-AE324, Revision 2, dated November 1, 2004.

Alternative Methods of Compliance

(h) The Manager, Engine Certification Office, has the authority to approve alternative methods of compliance for this AD if requested using the procedures found in 14 CFR 39.19.

Related Information

(i) CAA airworthiness directive G-2004-0025, dated October 27, 2004, also addresses the subject of this AD.

Material Incorporated by Reference

(j) None.

Issued in Burlington, Massachusetts, on July 1, 2005.
Jay J. Pardee,
Manager, Engine and Propeller Directorate, Aircraft Certification Service.

[FR Doc. 05-13425 Filed 7-7-05; 8:45 am]

BILLING CODE 4910-13-P